DEPARTMENT OF DEFENSE

Department of the Army

[Docket ID USA-2014-0013]

Proposed Collection; Comment Request

AGENCY: U.S. Army TACOM Life Cycle Management Command, DoD.

ACTION: Notice.

SUMMARY: In compliance with Section 3506(c)(2)(A) of the Paperwork Reduction Act of 1995, the U.S. Army TACOM Life Cycle Management Command, DoD announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by July 11, 2014.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the TACOM LCMC CIO G6, ATTN: Vaishali, Patel, Bld 230 Rm 100E, 6501 E Eleven Mile Rd, Warren, MI 48397-5000, or call 585-282-5141 or email vaishali.patel.civ@mail.mil.

SUPPLEMENTARY INFORMATION: Title; Associated Form; and OMB Number: EMPLOYEE DEPLOYMENT TRACKING SYSTEM (EDTS); system-generated form, 0702-XXXX.

Needs and Uses: The information collection requirement is necessary for deployment processing POCs. The POCs requires this information to process the deployment request for a candidate prior their deployment; this includes processing their reservation request prior to travelling to in processing center. It is also required to process the candidate's pay rolls once deployed, if a candidate deploys based on the in processing.

Affected Public: Individuals (Contracting Personnel).

Annual Burden Hours: 5 hr.

Number of Respondents: 100.

Responses per Respondent: 1.

Average Burden per Response: 3 minutes.

Frequency: On occasion.

Respondents are candidates seeking deployment from TACOM/(and AMC). The deployment application will automate the current deployment process AMC wide and eventually army wide. It provides an efficient way to collect, store, and route the deployment information/forms to respective POC (supervisor, CRC, ASC, G3 POC) based on the deployment status. The system will allow the POC to track the deployment accurately based on the date, and given period. The application will also send notifications to the candidate, supervisor and G3 POC based on the Deployment status. The new application will also control user access on need to know basis.

Dated: May 6, 2014.
Aaron Siegel,
Alternate OSD Federal Register Liaison Officer, Department of Defense.

[FR Doc. 2014-10720 Filed 5-9-14; 8:45 am]

BILLING CODE 5001-06-P